DEPARTMENT OF THE TREASURY

Internal Revenue Service

Superfund Tax on Chemical Substances; Request To Modify List of Taxable Substances; Notice of Filing for Hydrogenated Acrylonitrile-Butadiene Rubber (x = 2,783.50, y = 1,907.27; a = 5.74); Correction

AGENCY: Internal Revenue Service (IRS), Treasury.

ACTION: Notice of Filing and Request for Comments; correction.

SUMMARY: The IRS and Treasury published a document in the Federal Register of April 3, 2025, concerning the notice of filing for hydrogenated acrylonitrile-butadiene rubber ((C4H8)x-(C3H3N)y- (C15H24O)a; x = 2,783.05, y = 1,907.27, a = 5.74), public docket IRS-2025-0033. This document contained an incorrect date for the petition filing date for purposes of refund claims.

FOR FURTHER INFORMATION CONTACT: Camille Edwards Bennehoff at (202) 317-6855 (not a toll-free number).

SUPPLEMENTARY INFORMATION:

Correction

In the Federal Register of April 3, 2025, in 90 FR on page 14685, bottom of the second column and top of the third column, correct paragraph (b)(4)(ii) to read as follows: “(ii) Petition filing date for purposes of section 11.02 of Rev. Proc. 2022-26, as modified by section 3 of Rev. Proc. 2023-20: April 1, 2023.”

Oluwafunmilayo A. Taylor,
Section Chief, Publications and Regulations Section, Associate Chief Counsel (Procedure and Administration).

[FR Doc. 2025-07796 Filed 5-5-25; 8:45 am]

BILLING CODE 4830-01-P